DEPARTMENT OF EDUCATION

2015-2016 Federal Student Aid Application; Docket ID Number; Correction

AGENCY: Department of Education.

ACTION: Correction notice.

SUMMARY: On August 27, 2014 the U.S. Department of Education published a 60-day comment period notice in the Federal Register Pages 51144, Column 2 and 3; Page 51145, Column 1, 2 and 3 and Page 51146, Column 1 seeking public comment for an information collection entitled, “2015-2016 Federal Student Aid Application”. ED is requesting a correction to the Docket ID Number ED-2014-ICCD-0125. Docket ID should read as ED-2014-ICCD-0126.

The Acting Director, Information Collection Clearance Division, Privacy, Information and Records Management Services, Office of Management, hereby issues a correction notice as required by the Paperwork Reduction Act of 1995.

Dated: August 27, 2014.
Stephanie Valentine,
Acting Director, Information Collection Clearance Division, Privacy, Information and Records Management Services, Office of Management.

[FR Doc. 2014-20771 Filed 8-29-14; 8:45 am]

BILLING CODE P